DEPARTMENT OF HOMELAND SECURITY

Coast Guard

[Docket No. USCG-2016-0437]

Update to Alternative Planning Criteria (APC) National Guidelines

AGENCY: Coast Guard, DHS.

ACTION: Extension of comment period and notice of public meeting.

SUMMARY: Representatives from the U.S. Coast Guard's Office of Marine Environmental Response Policy and Seventeenth District will meet on September 21, 2016, in Anchorage, Alaska. The meeting will be used as an opportunity to discuss Alternative Planning Criteria (APC) as they relate to oil spill preparedness pursuant to vessel response plan requirements. The meeting will be open to the public. In addition, the comment period for the notice published May 27, 2016, is extended.

DATES: The comment period for the notice published May 27, 2016 (81 FR 33685) is extended. Comments and related material must be submitted on or before Friday, September 23, 2016. The Coast Guard will meet Wednesday, September 21, 2016, from 8:30 a.m. to 3:00 p.m. Please note that the meeting may close early if all comments have been heard.

ADDRESSES: The meeting will be held in the Robert Atwood Room (Room 104) on the first floor of the Robert B. Atwood Building, 550 W. 7th Avenue, Anchorage, AK 99501. Parking will be available in the adjacent Lilly Pacillo Parking Garage. Parking tickets can be validated at the Atwood Building's Security Desk.

For information on facilities or services for individuals with disabilities, or to request special assistance at the meeting, contact the person listed in FOR FURTHER INFORMATION CONTACT below, as soon as possible.

To view the APC Guidelines, as well as public comments and any documents mentioned in this notice, go to http://www.regulations.gov and type “USCG-2016-0437,” and click “Search.” Then click “Open Docket Folder.”

FOR FURTHER INFORMATION CONTACT: CDR Scott Stoermer, USCG Headquarters, 2703 Martin Luther King Jr. Ave SE., Stop 7516, Washington, DC 20593, scott.a.stoermer@uscg.mil, (202) 372-2234.

SUPPLEMENTARY INFORMATION: This public meeting is part of the public comment period already announced regarding the draft National APC Policy (81 FR 33685). To facilitate public participation, we are extending the comment period and holding a public meeting, and we invite public comment on the issues as listed in the “Agenda” section below. Comments previously submitted do not need to be submitted again.

Submitting Written Comments

If you submit a written comment, please include the docket number, indicate the specific material to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that Web site's instructions. Additionally, if you go to the online docket and sign up for email alerts, you will be notified when comments are posted or a final rule is published.

We accept anonymous comments. All comments received will be posted without change to http://www.regulations.gov and will include any personal information you have provided. For more about privacy and the docket, you may review a Privacy Act notice regarding the Federal Docket Management System in the March 24, 2005, issue of the Federal Register (70 FR 15086).

Public Meeting

A public comment period will be held during the meeting on September 21, 2016, from 12:00 p.m. to 3:00 p.m. Speakers are requested to limit their comments to 3 minutes. Please note that the public comment period may end before the time indicated, following the last call for comments. Contact the individual listed below to pre-register as a speaker. Pre-registration is not required to speak at the meeting as attendees will be able to note their desire to speak via the on-site meeting attendance/registration form. Written comments may also be brought to the meeting and will be included as part of the docket. Written comments submitted to the docket via http://www.regulations.gov do not need to be brought to the meeting.

The U.S. Coast Guard Office of Marine Environmental Response Policy is developing national-level policy to clarify APC submissions and processes pursuant to Title 33 Code of Federal Regulations, Part 155.1065 and 155.5067. While not a regulatory or rule-making activity, the Coast Guard is aware of the impact of the policy related to APC and its critical role in tank and non-tank vessel response preparedness. The goals of this public meeting are to: (1) Inform public entities of the status of Alternative Planning Criteria policy; (2) Inform public entities of the comments from earlier comment period(s); (3) Ensure public understanding of the Coast Guard's view of APC; and (4) Seek public comment & public insight into current APC policy challenges.

Agenda

The Coast Guard will present information pertaining to APC and receive oral comments from the public. Written comments will be accepted at the meeting; however, it is preferred any written comments are submitted in advance of the meeting. The Coast Guard will present the following topics:

(1) Brief, high-level summary of comments received following the release of District Seventeen's Draft Marine Safety Information Bulletin (July 2015) and during the comment period to date.

(2) Tenets of the draft APC policy.

(3) Open floor to receive public comments.

The Coast Guard will review all of the information received from public comment and take both oral and written comments into consideration as it finalizes the development of national APC policy.

Dated: August 10, 2016.
Joseph B. Loring,
Captain, Office of Marine Environmental Response Policy.

[FR Doc. 2016-19512 Filed 8-15-16; 8:45 am]

BILLING CODE 9110-04-P